DEPARTMENT OF AGRICULTURE

Food Safety and Inspection Service

[Docket No. FSIS-2017-0047]

Codex Alimentarius Commission: Meeting of the Codex Committee on Contaminants in Food

AGENCY: Office of the Deputy Under Secretary for Food Safety, USDA.

ACTION: Notice of public meeting and request for comments.

SUMMARY: The Office of the Deputy Under Secretary for Food Safety, U.S. Department of Agriculture (USDA), and the Food and Drug Administration (FDA), U.S. Department of Health and Human Services are sponsoring a public meeting on February 22, 2018. The objective of the public meeting is to provide information and receive public comments on agenda items and draft United States (U.S.) positions to be discussed at the 12th Session of the Codex Committee on Contaminants in Food (CCCF) of the Codex Alimentarius Commission (Codex), taking place in the Netherlands, March 12-16, 2018. The Office of the Deputy Under Secretary for Food Safety and the FDA recognize the importance of providing interested parties with the opportunity to obtain background information on the 12th Session of the CCCF and to address items on the agenda.

DATES: The public meeting is scheduled for Thursday, February 22, 2018, 1:00-4:00 p.m.

ADDRESSES: The public meeting will take place at the Food and Drug Administration (FDA), Harvey W. Wiley Federal Building, Center for Food Safety and Applied Nutrition, 5001 Campus Drive, Room 1A-001, College Park, MD 20740.

Documents related to the 12th Session of the CCCF will be accessible via the internet at the following address: http://www.codexalimentarius.org/meetings-reports/en/.

Dr. Lauren Posnick Robin, U.S. Delegate to the 12th Session of the CCCF and the FDA invite U.S. interested parties to submit their comments electronically to the following email address: Lauren.Robin@fda.hhs.gov.

Call-in-Number:

If you wish to participate in the public meeting for the 12th Session of the CCCF by conference call. Please use the call-in-number and the participant code below.

Call-in-Number: 1-888-844-9904.

Participant Code: 5126092.

Registration

Attendees may register to attend the public meeting by emailing Lauren.Robin@fda.hhs.gov by February 20, 2018. Early registration is encouraged as it will expedite entry into the building and parking area. If you require parking, please include the vehicle make and tag number when you register. The meeting will be held in a Federal building. Attendees should bring photo identification and plan for adequate time to pass through the security screening systems. Attendees who are not able to attend the meeting in person, but wish to participate, may do so by phone.

FOR FURTHER INFORMATION CONTACT:

About the 12th session of the CCCF—Dr. Lauren Posnik Robin, Branch Chief, Plant Products Branch, Division of Plant Products and Beverages, Office of Food Safety and Applied Nutrition, FDA, HFS-317, 5001 Campus Drive, College Park, MD 20740, Telephone: (240) 402-1639, Email: Lauren.Robin@fda.hhs.gov.

About the public meeting—Dr. Lauren Posnik Robin, Branch Chief, Plant Products Branch, Division of Plant Products and Beverages, Office of Food Safety and Applied Nutrition, FDA, HFS-317, 5001 Campus Drive, College Park, MD 20740, Telephone: (240) 402-1639, Email: Lauren.Robin@fda.hhs.gov.

SUPPLEMENTARY INFORMATION:

Background

The Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in the food trade.

The CCCF is responsible for:

(a) Establishing or endorsing permitted maximum levels, and where necessary revising existing guideline levels for contaminants and naturally occurring toxicants in food and feed;

(b) Preparing priority lists of contaminants and naturally occurring toxicants for risk assessment by the Joint FAO/WHO Expert Committee on Food Additives (JECFA);

(c) Considering and elaborating methods of analysis and sampling for the determination of contaminants and naturally occurring toxicants in food and feed;

(d) Considering and elaborating standards or codes of practice for related subjects; and

(e) Considering other matters assigned to it by Codex in relation to contaminants and naturally occurring toxicants in food and feed.

The Committee is hosted by the Netherlands.

Issues To Be Discussed at the Public Meeting

The following items on the Agenda for the 12th Session of the CCCF will be discussed during the public meeting:

• Matters referred to the Committee by the Codex Alimentarius Commission and/or its subsidiary bodies

• Matters of interest arising from FAO and WHO (Including JECFA)

• Matters of interest arising from other international organizations

• Proposed draft and draft maximum levels of lead in selected commodities in the General Standard for Contaminants and Toxins in Food and Feed

• Proposed draft maximum levels for cadmium in chocolate and cocoa-derived products

• Proposed draft maximum levels for methylmercury in fish including associated sampling plans

• Proposed draft revision of the Code of practice for the prevention and reduction of dioxins and dioxin-like PCBs in food and feed

• Proposed draft Code of practice for the reduction of 3-monochloropropane-1,2-diol esters and glycidyl esters in refined oils and products made with refined oils, especially infant formula

• Proposed draft maximum level for total aflatoxins in ready-to-eat peanuts and associated sampling plan

• Proposed draft maximum levels for total aflatoxins and ochratoxin A in nutmeg, chili and paprika, ginger, pepper and turmeric and associated sampling plans

• Proposed draft guidelines for risk analysis of chemicals inadvertently present in food at low levels

• Discussion paper on maximum levels for hydrocyanic acid in cassava and cassava-based products and mycotoxin contamination in these products

• Discussion paper on future work on maximum levels for lead for inclusion in the General Standard for Contaminants and toxins in Food and Feed

• Discussion paper on aflatoxins and sterigmatocystin contamination in cereals

• Discussion paper on the development of a Code of Practice for the prevention and reduction of cadmium contamination in cocoa

• Priority list of contaminants and naturally occurring toxicants for evaluation by JECFA

• Other business and future work

Each issue listed will be fully described in documents distributed, or to be distributed, by the Secretariat before the Meeting. Members of the public may access or request copies of these documents (see ADDRESSES).

Public Meeting

At the February 22, 2018 public meeting, draft U.S. positions on the agenda items will be described, discussed, and attendees will have the opportunity to pose questions and offer comments. Written comments may be offered at the meeting or emailed to Dr. Lauren Posnick Robin (see ADDRESSES). Written comments should state that they relate to activities of the 12th Session of the CCCF.

Additional Public Notification

Public awareness of all segments of rulemaking and policy development is important. Consequently, FSIS will announce this Federal Register publication on-line through the FSIS web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS web page. Through the web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410.

Fax: (202) 690-7442.

Email: program.intake@usda.gov

Persons with disabilities who require alternative means for communication (Braille, large print, audiotape, etc.), should contact USDA's TARGET Center at (202) 720-2600 (voice and TDD).

Done at Washington, DC on: December 19, 2017.
Paulo Almeida,
Acting U.S. Manager for Codex Alimentarius.

[FR Doc. 2017-27631 Filed 12-21-17; 8:45 am]

BILLING CODE 3410-DM-P